DEPARTMENT OF DEFENSE

Department of the Army

Availability of U.S. Patents for Non-Exclusive, Exclusive, or Partially-Exclusive Licensing

AGENCY: U.S. Army Research Laboratory, DoD.

ACTION: Notice.

SUMMARY: In accordance with 37 CFR 404.6 announcement is made of the availability of the following U.S. patent for non-exclusive, partially exclusive or exclusive licensing. The listed patent has been assigned to the United States of America as represented by the Secretary of the Army, Washington, D.C.

This patent covers a wide variety of technical arts including: A miniature, planar, delay slider actuator micromachined on a substrate.

Under the authority of Section 11(a)(2) of the Federal Technology Transfer Act of 1986 (Public Law 99-502) and Section 207 of Title 35, United States Code, the Department of the Army as represented by the U.S. Army Research Laboratory wish to license the U.S. patent listed below in a non-exclusive, exclusive or partially exclusive manner to any part interested in manufacturing, using, and/or selling devices or processes covered by this patent.

Title: Miniature, Planar, Inertially-Damped, Inertially-Actuated Delay Slider Actuator.

Inventor: Charles H. Robinson.

Patent Number: 6,064,013.

Issued Date: May 16, 2000.

FOR FURTHER INFORMATION CONTACT: Norma Cammaratta, Technology Transfer Office, AMSRL-CS-TT, U.S. Army Research Laboratory, Adelphi, MD 20783-1197 tel: (301) 394-2952: fax: (301) 394-5818.

SUPPLEMENTARY INFORMATION: None.

Gregory D. Showalter,
Army Federal Register Liaison Officer.

[FR Doc. 00-21140 Filed 8-18-00; 8:45 am]

BILLING CODE 3710-08-M